SMALL BUSINESS ADMINISTRATION

New York Credit SBIC Fund, L.P. License No. 03/03-0265; Notice Seeking Exemption Under Section 312 of the Small Business Investment Act, Conflicts of Interest

Notice is hereby given that New York Credit SBIC Fund, L.P., One Presidential Blvd., 4th Floor, Bala Cynwyd, PA 19004, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). New York Credit SBIC Fund, L.P., proposes to purchase debt and equity security financing issued by Action Environmental Group, Inc., 300 Frank W Burr Boulevard, Suite 30, Teaneck, NJ 07666, from Brightwood Capital SBIC I, L.P., 810 Seventh Avenue, 26th floor, New York, NY 10019.

The financing is brought within the purview of § 107.730 of the Regulations because New York Credit SBIC Fund, L.P. and Brightwood Capital SBIC I, L.P. are Associates as defined under 13 CFR 107.50.

Notice is hereby given that any interested person may submit written comments on this transaction within fifteen days of the date of this publication to the Associate Administrator, Office of Investment and Innovation, U.S. Small Business Administration, 409 Third Street SW., Washington, DC 20416.

Dated: August 31, 2016.
Mark L. Walsh,
Associate Administrator for Office of Investment and Innovation.

[FR Doc. 2016-21603 Filed 9-7-16; 8:45 am]

BILLING CODE P